DEPARTMENT OF HEALTH AND HUMAN SERVICES

Administration for Children and Families

Proposed Information Collection Activity; Comment Request

Title: Parents and Children Together (PACT) Evaluation.

OMB No.: New Collection.

Description: The Office of Planning, Research, and Evaluation (OPRE), Administration for Children and Families (ACF), U.S. Department of Health and Human Services (HHS), is proposing data collection activity as part of the Parents and Children Together (PACT) Evaluation.

The overall objective of the PACT evaluation is to document and evaluate Responsible Fatherhood (RF) and Healthy Marriage (HM) grants that were authorized under the 2010 Claims Resolution Act. This information will inform decisions related to future investments in this kind of programming as well as the design and operation of such services.

To meet the objective of the study, experimental impact studies with complementary implementation studies will be conducted, along with separate qualitative studies:

• Impact studies, with complementary implementation studies. The goal of the impact component is to provide rigorous estimates of the effectiveness of the programs. This component will use an experimental design. Program applicants who are interested in and eligible for the RF or HM program will be randomly assigned to either a program group and be offered participation in the program, or a control group and not be offered participation in the program. Information will be collected twice for the impact component. First, baseline information will be collected from all fathers or couples prior to random assignment. Second, follow-up data will be collected from sample members at about 12 months after enrollment in the program. A wide range of outcomes (e.g., father involvement; parenting and co-parenting; economic self-sufficiency) will be evaluated. The goal of the complementary implementation component is to provide a detailed description of the programs included in the impact study component—how they are implemented, their participants, the contexts in which they are operated, and their promising practices. The detailed descriptions will assist in interpreting program impacts and identifying program features and conditions necessary for effective program replication or improvement. Data collection for this component will include site visits, Management Information Systems (MIS), and partner organization surveys.

• Qualitative studies. The goal of the qualitative component is to provide a deeper understanding of the organizations operating RF and HM programs, as well as the lives of participants—their relationships, the challenges they face, the influences of the community in which they live, and how programs touch their lives. Data collection for this component will include site visits, MIS, participant characteristics survey, partner organization surveys, nonparticipant telephone interviews, in-depth in-person conversations with program participants, and diary studies.

This 60-Day Notice covers (a) instruments for the impact studies' baseline, (b) site Management Information Systems (MIS) for the impact/implementation and qualitative studies, (c) program participant characteristics survey for the qualitative studies, and (d) a request for OMB to waive subsequent 60-day Federal Register notices pertaining to the PACT Evaluation.

Respondents

For the baseline, information will be collected from all fathers or couples prior to random assignment. Program staff will be responsible for collecting and transferring the information.

For the Management Information Systems (MIS), program staff will be asked to record information on the services received by study participants in the impact/implementation and qualitative studies in the study MIS.

For the program participant characteristics survey in the qualitative studies, information will be collected from participants. Program staff will be responsible for collecting and transferring the information.

Annual Burden Estimates

A discussion guide, to assist in selecting sites for the impact/implementation and qualitative studies, is currently under review at OMB. A 60-Day Federal Register Notice for this instrument was published on August 12, 2011.

Instrument | Annual number of respondents | Number of responses per respondent | Average burden per response (minutes) | Total annual burden hours
Discussion guide for grantees and partner organization staff | 150 | 1 | 60 | 150

The following instruments, part of the baseline data collection and site Management Information Systems (MIS), are proposed for public comment under this 60-Day Federal Register Notice.

Instrument | Annual number of respondents | Number of responses per respondent | Average burden per response (minutes) | Total annual burden hours
Impact/Implementation Component
Baseline for program applicants | 3,000 | 1 | 35 | 1,750
Baseline for grantee staff | 30 | 100 | 35 | 1,750
Study MIS for grantee staff | 30 | 5,200 | 2 | 5,200
Qualitative Component
Study MIS for grantee staff | 15 | 867 | 2 | 434
Program participant characteristics survey | 250 | 1 | 25 | 104
Program participant characteristics survey for grantee staff | 15 | 16.7 | 25 | 104
Total |  |  |  | 9,342
Estimated Total Annual Burden Hours (for instruments currently under review and those associated with this 60-Day Notice): 9342.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2011-32489 Filed 12-19-11; 8:45 am]

BILLING CODE 4184-37-P